DEPARTMENT OF THE INTERIOR

Bureau of Land Management

[CACA-049016, LLCAD05000, L51010000, ER0000, LVRWB09B2990]

Notice of Intent To Prepare an Environmental Impact Statement for the Proposed Solar Millennium Ridgecrest Solar Power Project, Kern County, CA and Possible Land Use Plan Amendment and Staff Assessment

AGENCY: Bureau of Land Management, Interior.

ACTION: Notice of intent.

SUMMARY: In compliance with the National Environmental Policy Act of 1969 (NEPA), as amended, the Federal Land Policy and Management Act of 1976, as amended, and the California Environmental Quality Act, the Bureau of Land Management (BLM) Ridgecrest Field Office, together with the California Energy Commission (CEC), intend to prepare an Environmental Impact Statement (EIS)/Staff Assessment (SA), which may include an amendment to the California Desert Conservation Area (CDCA) Plan of 1980, as amended, and by this notice are announcing the beginning of the scoping process to solicit public comments and identify issues.

DATES: This notice initiates the public scoping process for the Draft EIS/SA and possible plan amendment. Comments on issues may be submitted in writing until December 23, 2009. The dates and locations of scoping meetings, information hearings, and site visits will be announced at least 15 days in advance through local media, the BLM Web site at http://www.blm.gov/ca/st/en/fo/ridgecrest.html, and the CEC's Web site at http://www.energy.ca.gov/sitingcases/solar_millennium_ridgecrest/index.html. In order to be considered in the Draft EIS/SA, all comments must be received prior to the close of the scoping period or 15 days after the last public meeting, whichever is later. We will provide additional opportunities for public participation upon publication of the Draft EIS and SA.

ADDRESSES: You may submit comments on issues and planning criteria related to the Solar Millennium Ridgecrest Draft EIS and SA by any of the following methods:

• Web site: http://www.blm.gov/ca/st/en/fo/ridgecrest.html or http://www.energy.ca.gov/sitingcases/solar_millennium_ridgecrest/index.html.

• E-mail: CARSPP@blm.gov or esolorio@energy.state.ca.us.

• Fax: BLM (951) 697-5299 or CEC (916) 654-3882.

• Mail: BLM California Desert District, 22835 Calle San Juan de los Lagos, Moreno Valley, California 92553, Attn: Janet Eubanks; or California Energy Commission, 1516 Ninth Street, MS-15, Sacramento, California, 95814, Attn: Eric Solorio.

Documents pertinent to this proposal may be examined at the Ridgecrest Field Office.

FOR FURTHER INFORMATION CONTACT: For further information or to have your name added to our mailing list, contact Janet Eubanks, Project Manager, at (951) 697-5376; or 22835 Calle San Juan de los Lagos, Moreno Valley, California 92553; or e-mail Janet_Eubanks@ca.blm.gov.

SUPPLEMENTARY INFORMATION: Solar Millennium, LLC, has applied for a right-of-way (ROW) authorization to construct and operate a parabolic trough, solar thermal, generating facility with a capacity of 250 megawatts. The project would connect to the existing Southern California Edison 230-kilovolt (kV) Inyokern/Kramer Junction transmission line. About a mile long portion of this 230 kV transmission line and about a mile long portion of a 115 kV line would be realigned to avoid the project area. The approximately 3,920-acre proposed ROW would contain two solar fields, a power block, construction areas, a dry-cooling tower, steel transmission towers with associated transmission lines, access roads, three covered water tanks, an underground water pipeline, a water treatment facility, an electrical switchyard, a land treatment unit for bioremediation of any soil that may be contaminated by heat transfer fluid, an office, a warehouse, a parking lot, and facility perimeter fencing. The project would be located approximately five miles southwest of the city of Ridgecrest in Kern County, California.

The purpose of the public scoping process is to determine relevant issues that will influence the scope of the environmental analysis, including alternatives, and guide the process for developing the EIS. At present, the BLM has identified the following preliminary issues: special area designations; social and economic impacts, including impacts to the public from traffic; ground and surface water quantity and quality; special status species management; cultural resources; and visual resources.

Authorization of this proposal may require amendment of the CDCA Plan (1980, as amended). By this notice, the BLM is complying with requirements in 43 CFR 1610.2(c) to notify the public of potential amendments to land use plans, predicated on the findings of the EIS. If a land use plan amendment is necessary, the BLM will integrate the land use planning process with the NEPA process for this project.

The BLM will use the NEPA commenting process to satisfy the public involvement process for Section 106 of the National Historic Preservation Act (16 U.S.C. 470f) as provided for in 36 CFR 800.2(d)(3). Native American Tribal consultations will be conducted in accordance with BLM policy, and Tribal concerns will be given due consideration, including impacts on Indian trust assets. Federal, State, and local agencies, tribes, and stakeholders that may be interested or affected by the BLM's decision on this project are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Thomas Pogacnik,
Deputy State Director, Natural Resources, California State Office.

[FR Doc. E9-27981 Filed 11-20-09; 8:45 am]

BILLING CODE 4310-40-P